DEPARTMENT OF ENERGY

Federal Energy Regulatory Commission

Combined Notice of Filings

Take notice that the Commission has received the following Natural Gas Pipeline Rate and Refund Report filings:

Filings Instituting Proceedings

Docket Numbers: RP14-68-000 .

Applicants: Ozark Gas Transmission, L.L.C.

Description: BP Negotiated Rate 11-1-2013 to be effective 11/1/2013.

Filed Date: 10/24/13.

Accession Number: 20131024-5070.

Comments Due: 5 p.m. ET 11/5/13.

Docket Numbers: RP14-69-000.

Applicants: Transcontinental Gas Pipe Line Company.

Description: GSS LSS Tracker Filing 11-01-2013 to be effective 11/1/2013.

Filed Date: 10/24/13.

Accession Number: 20131024-5089.

Comments Due: 5 p.m. ET 11/5/13.

Docket Numbers: RP14-70-000.

Applicants: Rochester Gas and Electric Corporation, Allegany Generating Station LLC.

Description: Joint Petition of Rochester Gas and Electric Corporation and Allegany Generating Station LLC for Temporary Waiver of Capacity Release Regulations and Policies, and Request for Expedited Treatment.

Filed Date: 10/24/13.

Accession Number: 20131024-5123.

Comments Due: 5 p.m. ET 10/31/13.

Docket Numbers: RP14-71-000.

Applicants: Cheniere Creole Trail Pipeline, L.P.

Description: Compliance Filing to be effective 11/1/2013.

Filed Date: 10/25/13.

Accession Number: 20131025-5083.

Comments Due: 5 p.m. ET 11/6/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1348-001.

Applicants: National Fuel Gas Supply Corporation.

Description: Amendment-Appalachian Pooling Filing (RP13-1348) to be effective 12/1/2013.

Filed Date: 10/24/13.

Accession Number: 20131024-5071.

Comments Due: 5 p.m. ET 11/5/13.

Docket Numbers: RP14-31-001.

Applicants: Northwest Pipeline LLC.

Description: RP14-31-001 South Seattle Lateral Compliance Filing to be effective 11/1/2013.

Filed Date: 10/24/13.

Accession Number: 20131024-5102.

Comments Due: 5 p.m. ET 11/5/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2013.
Nathaniel J. Davis, Sr.,
Deputy Secretary.

[FR Doc. 2013-26095 Filed 10-31-13; 8:45 am]

BILLING CODE 6717-01-P